DEPARTMENT OF THE INTERIOR

Bureau of Reclamation

Lake Berryessa Visitor Services Plan, Napa County, CA

AGENCY: Bureau of Reclamation, Interior.

ACTION: Reopening of comment period for review of Draft Environmental Impact Statement (DEIS).

SUMMARY: The Bureau of Reclamation is reopening the review period for the DEIS to consider additional or new information related to alternatives and impacts from the alternatives. Comments previously submitted need not be resubmitted. The notice of availability of the DEIS and notice of public workshop and notice of public hearings was published in the Federal Register on October 31, 2003 (68 FR 62097). A notice for an additional open house meeting was published in the Federal Register on December 19, 2003 (68 FR 70835). The public review period was originally to end on February 4, 2004, but was first extended to March 22, 2004 (69 FR 7261). The public review period was extended a second time to April 22, 2004 (69 FR 24668).

DATES: Submit comments on the DEIS on or before April 4, 2005.

ADDRESSES: Send comments on the DEIS to Ms. Janet Sierzputowski, Bureau of Reclamation, 2800 Cottage Way (Attn: MP-140), Sacramento, CA 95825. Comments may also be faxed to Ms. Sierzputowski at (916) 978-5114 or 5177.

FOR FURTHER INFORMATION CONTACT: Mr. Pete Lucero at (707) 966-2111 x106. A copy of the Executive Summary, DEIS, the technical appendices, and/or a CD of the information on the Lake Berryessa Web site may be obtained by calling Ms. Sierzputowski at (916) 978-5112.

SUPPLEMENTARY INFORMATION: Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: February 3, 2005.
Frank Michny,
Regional Environmental Officer, Mid-Pacific Region.

[FR Doc. 05-2974 Filed 2-15-05; 8:45 am]

BILLING CODE 4310-MN-P